DEPARTMENT OF AGRICULTURE

Food and Nutrition Service

Agency Information Collection Activities: Proposed Collection; Comment Request—Study To Assess the Effect of Supplemental Nutrition Assistance Program (SNAP) Participation on Food Security in the Post-American Recovery and Reinvestment Act (ARRA) Environment

AGENCY: Food and Nutrition Service (FNS), USDA.

ACTION: Notice.

SUMMARY: In accordance with the Paperwork Reduction Act of 1995, this notice invites the general public and other public agencies to comment on this proposed collection. This is a new collection for the contract Assessing the Effect of Supplemental Nutrition Assistance Program (SNAP) Participation on Food Security in the Post-American Recovery and Reinvestment Act (ARRA) Environment.

DATES: Written comments must be received on or before February 14, 2011.

ADDRESSES: Comments are invited on: (a) Whether the proposed data collection of information is necessary for the proper performance of the functions of the agency, including whether the information has practical utility; (b) the accuracy of the agency's estimate of the burden of the proposed collection of information, including the validity of the methodology and assumptions that were used; (c) ways to enhance the quality, utility, and clarity of the information to be collected; and (d) ways to minimize the burden of the collection of information on those who are to respond, including the use of appropriate automated, electronic, mechanical, or other technological collection techniques or other forms of information technology.

Comments may be sent to: Steven Carlson, Director, Office of Research and Analysis, U.S. Department of Agriculture, Food and Nutrition Service, 3101 Park Center Drive, Room 1014, Alexandria, VA 22302. Comments may also be submitted via fax to the attention of Steven Carlson at 703-305-2576 or via e-mail to Steve.Carlson@fns.usda.gov. Comments will also be accepted through the Federal eRulemaking Portal. Go to http://www.regulations.gov and follow the online instruction for submitting comments electronically.

All written comments will be open for public inspection at the office of the Food and Nutrition Service during regular business hours (8:30 a.m. to 5 p.m., Monday through Friday) at Room 1014, 3101 Park Center Drive, Alexandria, Virginia 22302.

All responses to this notice will be summarized and included in the request for Office of Management and Budget (OMB) approval. All comments will also be a matter of public record.

FOR FURTHER INFORMATION CONTACT: Requests for additional information should be directed to Steven Carlson on 703-305-2017.

SUPPLEMENTARY INFORMATION: Title: Study To Assess the Effect of Supplemental Nutrition Assistance Program (SNAP) Participation on Food Security in the Post-American Recovery and Reinvestment Act (ARRA) Environment.

OMB Number: [0584-NEW.]

Expiration Date: [Not Yet Assigned.]

Type of Request: New collection.

Abstract: The Food and Nutrition Service (FNS) administers the food and nutrition assistance programs in the U.S. Department of Agriculture. SNAP, the new name of the Food Stamp Program, remains the cornerstone of the Nation's nutrition assistance safety net. SNAP provides nutrition assistance benefits and nutrition education services to low-income individuals and families in an effort to reduce hunger and improve the health and well-being of low-income people and families.

The implementation of ARRA presents a unique opportunity to measure the impact of increased benefits on food insecurity. For decades, policy makers, advocates, and those implementing the program have hypothesized that increasing benefit amounts would reduce food insecurity and, perhaps, draw more individuals into the program who may have been reticent to apply. The ARRA increases the maximum allotments of SNAP participants by 13.6 percent, eases eligibility requirements for childless adults without jobs, and provides additional funding to State agencies responsible for administering the program. The natural experiment offered by the ARRA's benefit increase will be used to measure its impact on reducing food insecurity and hunger. This collection notice pertains to this effort, The Study To Assess the Effect of SNAP Participation on Food Security in the Post-American Recovery and Reinvestment Act (ARRA) Environment, which is funded by the FNS to determine whether and to what extent food insecurity declines with SNAP participation in a post-ARRA environment.

The study has several objectives: (1) Determine how, if at all, the prevalence of household food insecurity and amount of food expenditures vary with SNAP participation; (2) determine how, if at all, the observed results vary by key household characteristics and circumstances; and (3) determine what factors distinguish between food secure and food insecure SNAP households with children.

To meet the first two objectives, FNS will collect information from two representative samples: One from new SNAP households and one from SNAP households who in their current spell have participated in the program 6-7 months. The new SNAP households will be interviewed twice—first, the baseline survey will occur soon after they have been approved to receive benefits and the second, the follow-up survey, will occur approximately 6-7 months later for those new entrants who continue to participate in the SNAP program.

Among households participating in SNAP at the time of the baseline survey, samples of new entrants and ongoing participants will be chosen for individual in-depth in-person interviews. The purpose of these interviews is to supplement the quantitative analysis of the household interview data by developing tentative generalizations and hypotheses about the causes and results of food insecurity.

SNAP participants from 30 states will be sampled via a two-stage sampling process where the states are the first stage and sampled with probability proportional to size based on the number of SNAP participant households in each state. Within the selected states that agree to participate, SNAP participants will be randomly sampled. To ensure sufficient sample for the follow-up interviews, an oversample will be drawn of the new SNAP households for the baseline survey.

Affected Public: Individuals/Household.

Type of Respondents: SNAP Participants.

Estimated Number of Respondents: Out of the estimated 17,100 individuals initially sampled, 1,710 will not be contacted due to invalid or incomplete contact information. The remaining 15,390 individuals in a total of 30 states are expected to be contacted (see table below). Of those, 3,770 will refuse or be determined to be ineligible.

Estimated Number of Responses per Respondent: 1 to 2 responses. 7,529 respondents will have participated in only one interview. 4,001 respondents will have participated in both a baseline and follow-up interview. 90 respondents will have participated in both a baseline and an in-depth interview.

Estimated Time per Respondent: The estimated time per response varies from 5 minutes to 2 hours. The baseline and follow-up interviews will each average 0.50 hours (30 minutes). The in-depth interviews will average 1.50 hours (90 minutes). Therefore, among those who complete both a baseline and a follow-up interview, the burden estimate is 1 hour. For those who complete a baseline interview and an in-depth interview, the burden estimate is 2 hours. For all persons who decline to participate in the interview, the burden estimate is 0.08 hours (5 minutes) and includes the respondent's time to be screened in a brief call (see table below).

Estimated Total Annual Burden on Respondents: 8,247.1 hours. This includes interviewing hours for the baseline telephone survey, the in-depth in-person interviews and the follow-up telephone survey. See the table below for estimated total annual burden for each type of respondent by type of interview.

Respondent type | Instrument/s | Estimated number of respondents ¹ | Responses annually per respondent | Total annual responses | Estimated average number of hours per response | Estimated total hours
New Entrants | Baseline only | 3572 | 1 | 3572 | 0.50 | 1786.0
| Baseline & Follow-Up | 4001 | 2 | 8002 | 0.50 | 4001.0
| Baseline & In-depth | 45 | 2 | 90 | ² 1.0 | 90.0
| Refuse/Ineligible | 2282 | 1 | 2282 | 0.08 | 182.6
Current SNAP Participants | Baseline only | 3957 | 1 | 3957 | 0.50 | 1978.5
| Baseline & In-depth | 45 | 2 | 90 | ² 1.0 | 90.0
| Refuse/Ineligible | 1488 | 1 | 1488 | 0.08 | 119.0
Total |  | 15,390 |  | 19,481 |  | 8,247.1
¹ Assumes 10 percent of the full sample (1,100 of new entrants and 610 of current SNAP participants) will not be contacted due to invalid or incomplete contact information.
² Average of 1.5 hours for the in-depth interview and 0.5 hours for the baseline interview.

Dated: December 8, 2010.
Julia Paradis,
Administrator, Food and Nutrition Service.

[FR Doc. 2010-31550 Filed 12-15-10; 8:45 am]

BILLING CODE 3410-30-P